DEPARTMENT OF COMMERCE

National Oceanic and Atmospheric Administration

[I.D. 030705C]

New England Fishery Management Council; Public Meeting

AGENCY: National Marine Fisheries Service (NMFS), National Oceanic and Atmospheric Administration (NOAA), Commerce.

ACTION: Public meeting.

SUMMARY: The New England Fishery Management Council (Council) will hold a three-day Council meeting on March 29-31, 2005, to consider actions affecting New England fisheries in the exclusive economic zone (EEZ).

DATES: The meeting will be held on Tuesday, March 29, 2005, beginning at 9 a.m. and on Wednesday and Thursday, March 30 and 31, beginning at 8:30 a.m.

ADDRESSES: The meeting will be held at the Hotel Viking, One Bellevue Avenue, Newport, RI 02840; telephone (401) 847-3300. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, March 29, 2005

Following introductions, the Council will receive reports from the Council Chairman, Executive Director, the NMFS Regional Administrator, Northeast Fisheries Science Center and Mid-Atlantic Fishery Management Council liaisons, NOAA General Counsel, representatives of the U.S. Coast Guard, NMFS Enforcement and the Atlantic States Marine Fisheries Commission. Additional reports to the Council will address the recent Gear Conflict Workshop held by members of the fishing industry and an update on the New England Fleet Visioning Project. During the morning session, the Council will receive two briefings on ecosystem approaches to fisheries management, followed by a question and answer period.

Following a lunch break, there will be an opportunity to review and comment on the draft proposed rule for Framework Adjustment 17 to the Sea Scallop Fishery Management Plan (FMP). During this discussion, there will be a particular focus on the “power down” provision for scallop general category vessel that are required to carry vessel monitoring systems. There will be initial Council action on Framework Adjustment 1 to the Spiny Dogfish FMP, a modification to the plan that would allow multi-year specifications to be set for the fishery. At the end of the day, NOAA Fisheries staff will brief the Council on the alternatives contained in the Draft Environmental Impacts Statement for the Atlantic Large Whale Take Reduction Plan and the potential impact of the proposed measures on Council fishery management plans.

Wednesday, March 30, 2005

During the Wednesday morning session, the Council Executive Director will provide a report on a draft Council Conservation and Management Policy. Following Council comments and possible approval of the policy, the remainder of the day will be used to address bycatch issues. Specifically, the Council's Bycatch Committee will discuss bycatch reduction measures for the herring, whiting and groundfish fisheries. The Council will make final decisions concerning which measures would be the most appropriate to implement through a possible framework adjustment, or alternatively, through Emergency Action, Flexible Area Action System, or other vehicle. If the Council agrees to implement measures through a framework, final action could be taken at this meeting to approve measures for inclusion in the Northeast Multipspecies and/or Herring FMPs.

Thursday, March 31, 2005

The morning session will begin with a summary of the activities currently underway and associated with development of EFH Omnibus Amendment #2. An open period for public comments on subjects not otherwise listed on the agenda also will be provided. A report from the Groundfish Committee will follow. Issues to be addressed include final action on Framework Adjustment 41 to the Northeast Multispecies FMP (access to Closed Area I hook gear sector/haddock special access program for non-sector vessels) a report on the development of the biennial framework adjustment for fishing years 2005-2006 and recommendations for the Eastern U.S. Canada Area for fishing year 2005.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 8, 2005.
Emily Menashes,
Acting Director, Office of Sustainable Fisheries, National Marine Fisheries Service.

[FR Doc. E5-1025 Filed 3-10-05; 8:45 am]

BILLING CODE 3510-22-S